DEPARTMENT OF AGRICULTURE

Forest Service

Camp Four Vegetation Project

AGENCY: Forest Service, USDA.

ACTION: Notice of intent to prepare an environmental impact statement.

SUMMARY: The USDA Forest Service, Chequamegon-Nicolet National Forest, Medford-Park Falls Ranger District intends to prepare an environmental impact statement (EIS) to document the analysis and disclose the environmental effects of proposed land management activities, and corresponding alternatives within the Camp Four project area. The primary purpose of this proposal is to implement activities consistent with direction in the Chequamegon-Nicolet National Forests Land and Resource Management Plan (Forest Plan) and respond to specific needs identified in the project area.

The project area is located on National Forest System land in the north central portion of the Park Falls landbase of the Medford-Park Falls Ranger District, approximately 9 miles east of Park Falls, Wisconsin. The legal description for the area is: Township 40 North, Range 2 East, sections 1-3, 9-17, 19-28, 35; Township 40 North, Range 3 East, sections 4, 6, 8-10, 16-20, 29; 4th Principal Meridian.

DATES: Comments concerning the scope of the analysis must be received within 30 days of publication of this notice to receive timely consideration in the preparation of the draft EIS.

ADDRESSES: Send written comments to Jeanne Higgins, c/o Ann Hoefferle, Medford-Park Falls Ranger District, 850 N. 8th St., Medford, Wisconsin 54451. Send electronic comments to: ahoefferle@fs.fed.us with a subject line that reads “Camp Four Project.”

FOR FURTHER INFORMATION CONTACT: Ann Hoefferle, Camp Four Interdisciplinary Team Leader, Medford-Park Falls Ranger District, Chequamegon-Nicolet National Forest, USDA Forest Service: Telephone 715-748-4875 (or TTY: 711, National Relay System), e-mail ahoefferle@fs.fed.us. To mail correspondence to Ann Hoefferle, see information in ADDRESSES. Copies of documents may be obtained at the same address. Another means of obtaining information is to visit the Forest Web site at: http://www.fs.fed.us/r9/cnnf/natres/index.html.

SUPPLEMENTARY INFORMATION: The information presented in this notice is included to help the reviewer determine if they are interested in or potentially affected by this proposed project. The information presented in this notice is summarized. Those who wish to comment on this proposal or are otherwise interested in or potentially affected by it are encouraged to review more detailed documents such as the Proposed Action for the Camp Four Project (currently available for review) and the draft EIS. See the preceding section of this notice for the person to contact for more detailed information about this project.

Project Background

The Camp Four project falls within the area defined in the Chequamegon-Nicolet National Forests 2004 Land and Resource Management Plan (Forest Plan) as Management Area (MA) 4A and 8D. Vegetation management in MA 4A is towards coniferous, mixed coniferous-hardwood and aspen forests. Natural and plantation conifer stands are most prevalent, but both hardwood and aspen are well represented in the landscape. MA 8D is characterized by free-flowing rivers and associated corridors in a natural condition identified for special management on federal or state level. This management area provides habitat for riparian-dependant fish and wildlife species, area for recreational activities, and wildlife viewing opportunities. Two segments of the South Fork of the Flambeau River that are included in the project area are eligible national scenic and recreation river segments.

Forest Plan guidance for MA 4A includes species distribution of the aspen, balsam fir, paper birch, jack pine, red and white pine, northern hardwoods, and oak to be within a certain percentage range in order to maintain and develop a desired landscape dominated by coniferous, mixed coniferous-hardwood and aspen forests. This landscape composition would in turn benefit wildlife by providing a winter food source and thermal cover for species such as northern saw-whet owl, brown creeper, black pole warbler, chipping sparrow, pine warbler and red breasted nuthatch that are often associated with coniferous and mixed conifer-hardwood forests. Currently, the species distribution within MA 4A in the project area has more aspen than desired to meet management area objectives.

Additionally, the Forest Plan recommends that certain percentages of the aspen, paper birch and jack pine be within certain age categories in order to maintain the type and provide a variety of wildlife habitat. Currently, aspen and paper birch age classes are overrepresented in the older age classes, while the younger age classes are deficit, or moving towards a deficit condition.

Forest Plan guidance for vegetation within MA 8D includes treatment for the purposes of restoring or enhancing fish and wildlife habitat and visual quality. Vegetation management will be designed to create a large-tree character, and species composition that favors long-lived, large diameter trees. There are opportunities along the South Fork of the Flambeau River corridor (MA 8D) to convert mature aspen stands to long-lived tree species and maintain the health and vigor of existing red pine stands.

Purpose and Need for Action

The primary purpose of the Camp Four proposal is to implement activities consistent with direction in the Forest Plan and to respond to specific needs identified in the project area. The primary project-specific needs are to address maintenance of forest health and tree vigor, develop a desired landscape species distribution and adjust the age class distribution for aspen, paper birch and jack pine to the desired range within MA 4A and 8D, as identified in the Forest Plan. An associated need is to provide a safe and efficient transportation system within the project area.

Proposed Action

To meet the need of maintaining a healthy forest and tree vigor, proposed land management activities (proposed actions) include thinning red pine plantations on approximately 1,700 acres and treating approximately 800 acres of mixed northern hardwoods through thinning and selection harvest.

To meet the desired need of developing a landscape species distribution that is dominated by conifer and coniferous hardwood and aspen forests, the following activities are proposed: Convert mature aspen through shelterwood harvest and underplanting white pine on approximately 900 acres, remove jack pine and aspen overstory on approximately 100 acres to promote the advanced regeneration of the hardwood in the understory and reforest approximately 90 acres of mixed pine species and oak within large openings in abandoned hayfields.

To adjust age class distribution of aspen, paper birch and jack pine within the project area to the appropriate and desired range, the following activities are proposed: Clearcut regeneration harvest on about 190 acres of mature aspen, paper birch, jack pine and white spruce and shelterwood paper birch on approximately 65 acres.

To provide a safe and efficient transportation system, the following road projects within the area are proposed: Approximately one mile of temporary road construction, one mile of permanent road construction and two miles of road reconstruction are needed to accomplish harvest activities. Temporary logging roads are roads that would be decommissioned and re-vegetated following project completion.

In addition, approximately 24 miles of existing road within the project area, some of which would be utilized for the harvest activity, will be decomissioned and revegetated. These roads were identified as no longer needed for management activities and many are not Forest System roads. Most were probably utilized for past harvest activity, but since they would not be needed again for many years (20-40), they will be dropped from our road inventory following decommissioning activity.

Approximately eight miles of existing road will be closed. These roads are needed to meet future access needs but were identified for closure to all motorized use, except for administrative purposes, due to resource conflicts and public safety. Roads will be closed using gates, rock or berm barriers.

Preliminary Issues

Included with the proposal and any action alternatives to the proposal will be the implementation of the Forest Plan standards and guides as they apply to this project. Plan standards and guides are detailed information on how the activities will be carried out or implemented and address potential impacts to brook trout habitat, heritage resources, forest age structure as it relates to forest health, wildlife species (spruce grouse, wolf, bald eagle, etc.), water, wetlands, and soils, and some potential economic and social impacts (such as visual quality, recreation). These standards and guidelines have been considered and incorporated into the proposed action. The incorporation of the Plan standards and guides is intended to reduce or eliminate potential adverse effects of the activities that may result from the proposed action.

Given the inclusion of the Plan standards and guides in the development of the proposed action, the following preliminary issue was identified: Potential effects on nesting habitat for the Northern goshawk, a Regional Forester Sensitive Species (RFSS). There are several probable Northern goshawk nests within the project area and while the Forest Plan has standards and guides that minimize direct disturbance to this species' known nesting habitat, disturbance to potential nesting habitat at this time is unknown. At a minimum, this species will be evaluated to determine impacts (if any) to habitat and any subsequent impact to population viability.

Possible Alternatives

Alternatives to the proposed action that are currently being considered for display in the draft EIS are as follows: The required No Action alternative and the proposed action alternative.

Nature of the Decision To Be Made

The primary decision will be whether or not to implement the proposed projects or alternatives of the projects within the project area. The decision may also include additional resource protection measures, monitoring, and whether Forest Plan amendments are needed to implement the decision.

Responsible Official

Jeanne Higgins, Forest Supervisor, Chequamegon-Nicolet National Forest, 1170 4th Avenue South, Park Falls, WI 54552.

Comment Requested

This notice of intent initiates the scoping process which guides the development of the EIS. Comments in response to this solicitation for information should focus on (1) The proposal; (2) issues or impacts from the proposal; and (3) possible alternatives for addressing issues associated with the proposal. We are especially interested in information that might identify a specific undesired result of implementing the proposed actions.

Comments received in response to this solicitation and subsequent solicitations, including names and addresses of those who comment, will be considered part of the public record and will be available for public inspection. Comments submitted anonymously will be accepted and considered; however, those who submit anonymous comments will not have standing to appeal the subsequent decision under 36 CFR part 215. See the section titled ADDRESSES in this notice for location of where to send comments.

Estimated Dates for Filing

The draft EIS is expected to be filed with the Environmental Protection Agency and be available for public review in February 2008. A 45-day comment period will follow publication of a Notice of Availability of the draft EIS in the Federal Register. Comments received on the draft EIS will be used in preparation of a final EIS. We expect to file the notice of the availability of the final EIS and Record of Decision (ROD) in the Federal Register in June 2008.

Early Notice of the Importance of Public Participation in Subsequent Environmental Review: The Forest Service believes, at this early stage, it is important to give reviewers notice of several court rulings related to public participation in the environmental review process. First, reviewers of the draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the draft EIS. Reviewers may wish to refer to the Council on Environmental Quality Regulations for implementing the procedural provisions of the National Environmental Policy Act at 40 CFR 1503.3 in addressing these points.

(Authority: 40 CFR 1501.7 and 1508.22; Forest Service Handbook 1909.15, section 21).

Dated: September 7, 2007.
Jeanne Higgins,
Forest Supervisor.

[FR Doc. E7-18341 Filed 9-17-07; 8:45 am]

BILLING CODE 3410-11-P